FEDERAL COMMUNICATIONS COMMISSION

Privacy Act of 1974; System of Records

AGENCY: Federal Communications Commission.

ACTION: Notice of a Modified System of Records.

SUMMARY: The Federal Communications Commission (FCC, Commission, or Agency) has modified an existing system of records, FCC/OET-1, Experimental Radio Station License Files (ELS), subject to the Privacy Act of 1974, as amended. This action is necessary to meet the requirements of the Privacy Act to publish in the Federal Register notice of the existence and character of records maintained by the Agency. The FCC's Office of Engineering and Technology (OET) uses the information in this system to determine: (a) An applicant's eligibility to operate a station in the experimental radio service; (b) the interference potential to other radio services within the FCC; and/or (c) if the proposed project or experimentation falls within the type of permissible operations set forth in section 5.3 of the rules.

DATES: This action will become effective on June 11, 2019. Written comments on the system's routine uses are due by July 11, 2019. The routine uses in this action will become effective on July 11, 2019, unless written comments are received that require a contrary determination.

ADDRESSES: Send comments to Leslie F. Smith, Privacy Manager, Information Technology (IT), Room 1-C216, Federal Communications Commission, 445 12th Street SW, Washington, DC 20554, or via the internet at Leslie.Smith@fcc.gov.

FOR FURTHER INFORMATION CONTACT: Leslie F. Smith, (202) 418-0217, or Leslie.Smith@fcc.gov (and to obtain a copy of the Narrative Statement and the Supplementary Documentation, which includes details of the modifications to this system of records).

SUPPLEMENTARY INFORMATION: FCC/OET-1 helps the FCC administer the Experimental Radio Service, which makes portions of the radio frequency spectrum available for the purposes of experimentation, product development, and market trials. This notice serves to modify FCC/OET-1 as a result of the various necessary changes and updates, including the introduction of an all-electronic information filing system, and other updates and modifications to meet current FCC and OMB requirements for SORNs, including format changes required by OMB Circular A-108, since its previous publication. The substantive changes and modifications to the previously published version of the FCC/OET-1 system of records include:

1. Updating the language in the Security Classification to follow OMB and FCC guidance.

2. Implementing minor changes to the language in the Categories of Individuals to be consistent with the language and phrasing now used in the FCC's SORNs.

3. Expanding the Categories of Records to include FCC Form 159 and Special Temporary Authorities; to add the name, mailing address, email address, and telephone number in the PII included in experimental project reports of applicants and/or licensees; to include comments from FCC bureaus and offices and the NTIA on both frequency interference potential and/or coordination of operations; and to include information pertaining to contested applications for licenses, transfers, assignments, and construction, or petitions to deny or to cancel applicants on behalf of other parties.

4. Expanding the Record Source Categories to note that the record sources include, but are not limited to the information that individual applicants provide on one or more FCC forms, special temporary authorities (STAs), and/or any supporting exhibits submitted by the applicants and/or licensees, and related documentation.

5. Updating and/or revising language in four routine uses: (2) Adjudication and Litigation; (3) Law Enforcement and Investigation; (4) Congressional Inquiries; and (5) Government-wide Program Management and Oversight.

6. Adding three new routine uses: (6) Breach Notification to address real or suspected data breach situations at the FCC; (7) Assistance to Federal Agencies and Entities for assistance with other Federal agencies' data breach situations; and (8) For Non-Federal Personnel to allow contractors performing or working on a contract for the Federal Government access to information. Routine Uses (6) and (7) are required by OMB Memorandum M-17-12.

7. Adding a new records retention and disposal schedule approved by the National Archives and Records Administration (NARA).

8. Adding two new sections: Reporting to a Consumer Reporting Agency addressing valid and overdue debts owed by individuals to the FCC under the Debt Collection Act, as recommended by OMB; and History referencing the previous publication of this SORN in the Federal Register, as required by OMB Circular A-108.

The system of records is also updated to reflect various administrative changes related to the system managers and system addresses; policy and practices for storage and retrieval of the information; administrative, technical, and physical safeguards; and updated notification, records access, and contesting records procedures.

System Name and Number

FCC/OET-1, Experimental Radio Station License Files (ELS).

SECURITY CLASSIFICATION:

No information in the ELS system is classified. Experimental license applications that contain classified material are treated in a bifurcated manner, with unclassified data filed in ELS. The remaining portion of these applications are filed with the FCC's Security Operations Staff and are processed consistent with the FCC's security regulations. The material filed with the Security Operations Staff is maintained separately from and does not become part of the ELS system.

SYSTEM LOCATION:

Office of Engineering and Technology (OET), Federal Communications Commission (FCC), 445 12th Street SW, Washington, DC 20554.

SYSTEM MANAGER(S):

Experimental Licensing Branch, Office of Engineering and Technology (OET), Federal Communications Commission, 445 12th Street SW, Washington, DC 20554.

AUTHORITY FOR MAINTENANCE OF THE SYSTEM:

47 U.S.C. 308.

PURPOSE(S) OF THE SYSTEM:

The uses for the information in the system include, but are not limited to those uses for which FCC employees may determine:

1. An applicant's eligibility to operate a station in the experimental radio service;

2. The interference potential to other radio services within the Commission; and/or

3. If the proposed project or experimentation falls within the type of permissible operations set forth in section 5.3 of the Commission's rules, 47 CFR 5.3.

CATEGORIES OF INDIVDUALS COVERED BY THE SYSTEM:

The categories of individuals in this system include, but are not limited to, those who have applied for or have been granted a license to operate an experimental radio station under 47 CFR part 5 of the Commission's rules.

CATEGORIES OF RECORDS IN THE SYSTEM:

The categories of records in this system include, but are not limited to:

1. These FCC Forms, any supporting exhibits submitted by the applicant(s), and related documentation:

(a) FCC Form 159 series, Remittance Advice et al. (when paying fees by check);

(b) FCC Form 405, Application for Renewal of Station License;

(c) FCC Form 442, Application for a New or Modified Station;

(d) FCC Form 702, Application for Consent to Assignment of Radio Station Construction Authorization or License;

(e) FCC Form 703, Application for Consent to Transfer Control of Corporation Holding Station License;

(f) Special Temporary Authority (STA) under 47 CFR 5.61 of the Commission's rules; and

(g) Any supporting documentation, including but not limited to exhibits and other materials submitted by the applicant(s) and/or licensee(s).

2. Personally identifiable information (PII) included in experimental project reports submitted by the applicant(s) and/or licensee(s) as required by 47 CFR part 5 of the Commission's rules, including name, mailing address, email address(es), and telephone number(s).

3. Information included in comments from other FCC bureaus/offices and the NTIA on frequency interference potential and/or coordination of the operation(s).

4. Contested applications for licenses, transfers, assignments, and construction, or petitions to deny or to cancel applicants on behalf of other parties.

5. Comments from other FCC bureaus/offices on whether the project or experimentation is valid, as well as its possible use in rulemakings.

RECORD SOURCE CATEGORIES:

The sources for the majority of information in this system of records include, but are not limited to the information that individual applicants provide on one or more FCC forms, special temporary authorities (STAs), and/or any supporting exhibits submitted by the applicants and/or licensees, and related documentation. Other information in these records comes from coordination with other FCC bureaus and offices from data that are generated with the OET Spectrum Coordination Branch during the normal processing of the application.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows:

1. Public Access—Information from this system is posted at: https://www.fcc.gov/els for public inspection, in response to a request, in connection with new experimentation being conducted and the impact that this experimentation may have on the public. The information will not be disclosed if it is not routinely available for public inspection under 47 CFR 0.457(d)(1)(ii) of the Commission's rules, or if a request that the information be given confidential treatment is pending or have been granted under 47 CFR 0.459.

2. Adjudication and Litigation—To disclose information to the Department of Justice (DOJ), or other administrative body before which the FCC is authorized to appear when: (a) The FCC or any other component thereof; or (b) any employee of the FCC in his or her official capacity; or (c) any employee of the FCC in his or her individual capacity where the DOJ or the FCC have agreed to represent the employee; or (d) the United States is a party to litigation or have an interest in such litigation, and the use of such records by the DOJ or the FCC is deemed by the FCC to be relevant and necessary to the litigation.

3. Law Enforcement and Investigation—To disclose pertinent information to the appropriate Federal, State, or local agency responsible for investigating, prosecuting, enforcing, or implementing a statute, rule, regulation or order, where the FCC becomes aware of an indication of a violation or potential violation of civil or criminal law or regulation.

4. Congressional Inquiries—To provide information to a Congressional office from the record of an individual in response to an inquiry from that Congressional office made at the written request of that individual.

5. Government-wide Program Management and Oversight—To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

6. Breach Notification—To appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

7. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

8. For Non-Federal Personnel—To disclose information to contractors performing or working on a contract for OET that provides services for the Federal Government who may require access to this system of records.

REPORTING TO A CONSUMER REPORTING AGENCY:

In addition to the routine uses listed above, the Commission may share information from this system of records with a consumer reporting agency regarding an individual who has not paid a valid and overdue financial debt owed to the Commission, following the procedures set out in the Debt Collection Act, 31 U.S.C. 3701(e).

POLICIES AND PRACTICES FOR STORAGE OF RECORDS:

Information in this system of records includes:

1. Paper records, files, and documents are maintained for various, short-term uses, as necessary. These documents are maintained in file cabinets in the OET office suite. The file cabinets are locked at the end of the business day. These documents are destroyed by shredding when no longer needed.

2. Electronically scanned images of paper documents and records;

3. Electronic records of data elements of both paper applicants and files and electronically filed applications; and

4. Electronic copies of licenses granted after November 16, 1998.

As required by 47 CFR 5.55(b) of the Commission's rules, all applications for experimental licensing must now be filed electronically via the internet at: https://www.fcc.gov/els.

POLICIES AND PRACTICES FOR RETRIEVAL OF RECORDS:

1. The paper documents, files, and records are retrieved by the licensee name. If there is more than one station per licensee, then the files may be also retrieved by call sign; and

2. The scanned images, electronic records of data elements, and electronic copies of licenses may be retrieved from the OET Experimental Licensing Branch Report World Wide Web electronic filing and reporting site at: https://www.fcc.gov/els.

POLICIES AND PRACTICES FOR RETENTION AND DISPOSAL OF RECORDS:

The information in this system is maintained and disposed of in accordance with the National Archives and Records Administration (NARA) General Records Schedule DAA-0173-2016-0003. The records, documents, and files are maintained for three years after expiration of the license. The FCC disposes of the paper documents by shredding. The electronic records, files, and data are destroyed either by physical destruction of the electronic storage media or by erasure of the electronic data.

ADMINISTRATIVE, TECHNICAL, AND PHYSICAL SAFEGUARDS:

OET makes all records, documents, and files (including both paper and electronic formats) available to the public at: https://www.fcc.gov/els except: (1) Files that are not routinely available for public inspection as defined in 47 CFR 0.457(d)(1)(ii); and/or (2) files that have been submitted in compliance with the confidentiality request requirement of 47 CFR 0.459.

When not publicly available, the electronic data, records, and files are stored within FCC accreditation boundaries. Access to the electronic files is restricted to OET and IT staff, contractors, and vendors who maintain the networks and services. Other FCC employees, contractors, vendors, and users may be granted access on a need-to-know basis. The FCC's data are protected by the FCC and third-party privacy safeguards, a comprehensive and dynamic set of IT safety and security protocols and features that are designed to meet all Federal IT privacy standards, including those required by the Federal Information Security Modernization Act of 2014 (FISMA), the Office of Management and Budget (OMB), and the National Institute of Standards and Technology (NIST).

The OET staff may print paper copies of these electronic records for various, short-term uses, as necessary. These paper document copies are stored in locked file cabinets in the OET office suite, when not in use. Only authorized OET staff and contractors may have access to these documents, unless OET grants access to FCC employees and contractors, as required, for specific purposes. These paper documents are destroyed by shredding when no longer needed.

RECORDS ACCESS PROCEDURE:

Individuals wishing to request access to and/or amendment of records about them should follow the Notification Procedure below.

CONTESTING RECORDS PROCEDURES:

Individuals wishing to request access to and/or amendment of records about them should follow the Notification Procedure below.

NOTIFICATION PROCEDURES:

Individuals wishing to determine whether this system of records contains information about them may do so by writing to Leslie F. Smith, Privacy Manager, Information Technology, Federal Communications Commission, 445 12th Street SW, Washington, DC 20554, or email Leslie.Smith@fcc.gov.

Individuals must furnish reasonable identification by showing any two of the following: Social security card; passport; driver's license; employee identification card; Medicare card; birth certificate; bank credit card; and/or other positive means of identification, or by signing an identity statement stipulating that knowingly or willfully seeking or obtaining access to records about another person under false pretenses is punishable by a fine of up to $5,000.

Individuals requesting access must also comply with the FCC's Privacy Act regulations regarding verification of identity and access to records, 47 CFR part 0, subpart E.

EXEMPTIONS PROMULGATED FOR THE SYSTEM:

None.

HISTORY:

The FCC previously gave full notice of FCC/OET-1, Experimental Radio Station License Files (ELS), by publication in the Federal Register on April 5, 2006 (71 FR 17234, 17241).

Federal Communications Commission.
Katura Jackson,
Federal Register Liaison Officer.

[FR Doc. 2019-12166 Filed 6-10-19; 8:45 am]

BILLING CODE 6712-01-P